DEPARTMENT OF TRANSPORTATION

Federal Aviation Administration

RIN 2120-AG16

Precision Approach Landing Systems Policy

AGENCY: Federal Aviation Administration (FAA), DOT.

ACTION: Policy statement; withdrawal.

SUMMARY: The FAA is withdrawing a previously published policy statement on the implementation of the Microwave Landing System (MLS) for precision approach service in the National Airspace System (NAS). This action is necessary because the policy has been overcome by events and is no longer relevant. This action is part of our effort to address recommendations of the Government Accounting Office and the Management Advisory Council to reduce the number of items in the Regulatory Agenda, and to accurately reflect agency initiatives.

FOR FURTHER INFORMATION CONTACT: Alicia K. Douglas, Office of Rulemaking (ARM-204), Federal Aviation Administration, 800 Independence Avenue, SW., Washington, DC 20591, (202) 267-9681, alicia.k.douglas@faa.gov.

SUPPLEMENTARY INFORMATION:

Background

On December 27, 1989, we published a policy statement entitled, “Precision Approach Landing Systems Policy” (54 FR 53231). This statement announced our transitioning from the Instrument Landing System to the MLS for precision approach service in the NAS. A delay in the MLS implementation occurred since publication of this policy statement. Meanwhile, Global Positioning System technology evolved and proved to have a greater potential to improve NAS capacity, efficiency, and safety than the MLS.

Reason for Withdrawal

We are withdrawing this policy statement, “Precision Approach Landing Systems Policy” (54 FR 53231), because it is no longer relevant.

Conclusion

Withdrawal of this policy statement, “Precision Approach Landing Systems Policy” (54 FR 53231), does not preclude the FAA from issuing a notice on this subject in the future or from committing to any future course of action.

Issued in Washington, DC, on July 11, 2003.
Marion C. Blakey,
Administrator.

[FR Doc. 03-18590 Filed 7-23-03; 8:45 am]

BILLING CODE 4910-13-M